DEPARTMENT OF ENERGY

Federal Energy Regulatory Commission

Notice of Settlement Agreement and Soliciting Comments

October 24, 2002.

Take notice that the following settlement agreement has been filed with the Commission and is available for public inspection.

a. Type of Application: Settlement Agreement.

b. Projects: Oneida Project No. 472-017, Soda Project No. 20-019 and Grace-Cove Project No. 2401-007.

c. Date filed: September 26, 2002.

d. Applicant: PacifiCorp.

e. Location: On the Bear River in Caribou and Franklin Counties, Idaho. The projects are partially located on United States lands administered by the Bureau of Land Management.

f. Filed Pursuant to: Rule 602 of the Commission's Rules of Practice and Procedure, 18 CFR 385.602.

g. Applicant Contact: Randy Landolt, Managing Director, Hydro Resources, PacifiCorp, 825 NE. Multnomah Street, Suite 1500, Portland, OR 97232, (503) 813-6650, or Thomas H. Nelson, 825 Multnomah Street, Suite 925, Portland, OR 97232, (503) 813-5890.

h. FERC Contact: Susan O'Brien, (202) 502-8449; susan.obrien@ferc.gov.

i. Deadline for filing comments: December 2, 2002. Reply comments due December 17, 2002.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's web site (http://www.ferc.gov) under the “e-Filing” link.

j. PacifiCorp filed a comprehensive settlement agreement, signed by 14 other stakeholders, with the stated objective “. . . to resolve all issues regarding relicensing of the Bear River Projects, for the purpose of obtaining a FERC order issuing to PacifiCorp the New Licenses for the Projects . . .” (section 1.1 of the agreement). Thus, the settlement agreement supercedes the original license application filings of September 1999, and the settlement constitutes PacifiCorp's proposed action. Issues resolved through the settlement include project operations, delivery of irrigation water, flood control, recreational opportunities, water quality, and enhancement and restoration of natural resources. k. A copy of the settlement agreement is available for review at the Commission in the Public Reference Room or may be viewed on the Commission's website at http://www.ferc.gov using the “FERRIS” link. Enter the docket number excluding the last three digits in the docket number field to access the document. For assistance, call 1-866-208-3676 or for TTY, (202) 502-8659. A copy is also available for inspection and reproduction at the address in item g. above.

Linwood A. Watson, Jr.,
Deputy Secretary.

[FR Doc. 02-27942 Filed 11-1-02; 8:45 am]

BILLING CODE 6717-01-P